DEPARTMENT OF AGRICULTURE

Foreign Agricultural Service

Notice of Request for a Revision of a Currently Approved Information Collection

AGENCY: Foreign Agricultural Service, USDA.

ACTION: Notice and request for comments.

SUMMARY: In accordance with the Paperwork Reduction Act, this notice announces the Department's intention to revise the currently approved information collection in support of the Export Sales Reporting program.

DATES: Comments should be submitted no later than July 20, 2020 to be assured of consideration.

ADDRESSES: You may send comments, identified by the OMB Control number 0551-0007, by any of the following methods:

• Federal eRulemaking Portal: Go to http://www.regulations.gov. Follow the online instructions for submitting comments.

• Email: esr@fas.usda.gov. Include OMB Control number 0551-0007 in the subject line of the message.

• Mail: U.S. Department of Agriculture, 1400 Independence Avenue SW, Washington, DC 20250-1053.

FOR FURTHER INFORMATION CONTACT: Amy Harding, 202-720-3538, Amy.Harding@usda.gov.

SUPPLEMENTARY INFORMATION:

Title: Export Sales Reporting Program of U.S. Agricultural Commodities.

OMB Number: 0551-0007.

Expiration Date of Approval: July 31, 2020.

Type of Request: Revision of a currently approved information collection.

Abstract: Section 602 of the Agricultural Trade Act of 1978, as amended, (7 U.S.C. 5712) requires the reporting of information pertaining to contracts for export sale of certain specified agricultural commodities that may be designated by the Secretary of Agriculture. In accordance with Sec. 602, individual reports submitted shall remain confidential and shall be compiled and published in compilation form each week following the week of reporting. Regulations at 7 CFR part 20 provide the reporting requirements and prescribe a system for reporting information pertaining to contracts for export sales.

USDA's Export Sales Reporting System was created after the large unexpected purchase of U.S. wheat and corn by the Soviet Union in 1972. To make sure that all parties involved in the production and export of U.S. grain have access to up-to-date export information, the U.S. Congress mandated an export sales reporting requirement in 1973. Prior to the establishment of the Export Sales Reporting System, it was difficult for the public to obtain information on export sales activity until the actual shipments had taken place. This frequently resulted in considerable delay in the availability of information.

Under the Export Sales Reporting System, U.S. exporters are required to report all large sales of certain designated grains, oilseeds and oilseed products by 3:00 p.m. (Eastern Time) on the next business day after the sale is made. The designated commodities for these daily reports are wheat (by class), barley, corn, grain sorghum, oats, soybeans, soybean cake and meal, and soybean oil. Large sales for all reportable commodities except soybean oil are defined as 100,000 metric tons or more of one commodity in 1 day to a single destination or 200,000 tons or more of one commodity during the weekly reporting period. Large sales for soybean oil are 20,000 tons and 40,000 tons, respectively.

Weekly reports are also required, regardless of the size of the sales transaction, for all of these commodities, as well as wheat products, rye, flaxseed, linseed oil, sunflowerseed oil, cotton (by staple length), cottonseed, cottonseed cake and meal, cottonseed oil, rice (by class), cattle hides and skins (including cattle, calf, and kip), beef, and pork. The reporting week for the export sales reporting system is Friday-Thursday. The Secretary of Agriculture has the authority to add other commodities to this list.

U.S. exporters provide information on the quantity of their sales transactions, the type and class of commodity, the marketing year of shipment, and the destination. They also report any changes in previously reported information, such as cancellations and changes in destinations.

The estimated total annual burden may increase due to the clarification of the reporting requirements for pork and beef to the program.

Estimate of Burden: The average burden, including the time for reviewing instructions, gathering data needed, completing forms, and record keeping is estimated to be 30 minutes.

Respondents: All exporters of wheat and wheat flour, feed grains, oilseeds, cotton, rice, cattle hides and skins, beef, pork, and any products thereof, and other commodities that the Secretary may designate as produced in the United States.

Estimated number of respondents: 383.

Estimated Annual Number of Responses per Respondent: 255.

Estimated Total Annual Reporting Burden: 48,833 hours.

Copies of this information collection can be obtained from Connie Ehrhart, the Agency Information Collection Coordinator, at (202) 690-1578.

Requests for Comments: Send comments regarding (a) whether the information is necessary for the proper performance of the functions of the agency, including whether the information will have practical utility; (b) the accuracy of the agency's estimate of the burden of the collection of information including validity of the methodology and assumption used; (c) ways to enhance the quality, utility and clarity of the information to be collected; and (d) ways to minimize the burden of the collection of information on those who are to respond, including through the use of automated, electronic, mechanical, or other technological collection techniques or other forms of information technology.

FAS is committed to compliance with the Government Paperwork Elimination Act, which requires Government agencies, in general, to provide the public the option of submitting information or transacting business electronically to the maximum extent possible.

Comments will be available for inspection online at http://www.regulations.gov and at the mail address listed above between 8:00 a.m. and 4:30 p.m., Monday through Friday, except holidays.

Persons with disabilities who require an alternative means for communication of information (Braille, large print, audiotape, etc.) should contact USDA's Target Center at (202) 720-2600 (voice and TDD).

Confidentiality: All submitted comments and attachments are part of the public record and subject to disclosure. Do not enclose any material in your comments that you consider to be confidential or that is inappropriate for public disclosure.

Kenneth Isley,
Administrator, Foreign Agricultural Service.

[FR Doc. 2020-10748 Filed 5-18-20; 8:45 am]

BILLING CODE 3410-10-P